DEPARTMENT OF HOMELAND SECURITY

Submission for OMB Review; Comment Request

AGENCY: Office of the Under Secretary for Management, Homeland Security.

ACTION: Submission for OMB review; comment request.

DATE: August 22, 2003.

SUMMARY: The Department of Homeland Security (DHS) has submitted the following (see below) information collection request (ICR), to the Office of Management and Budget (OMB) for review and approval in accordance with the Paperwork Reduction Act of 1995 (Pub. L. 104-13, 44 U.S.C. Chapter 35). A copy of this ICR, with applicable supporting documentation, may be obtained by calling the Department of Homeland Security, Theresa M. O'Malley ((202) 358-3571), or by e-mail to: Terry.OMalley@dhs.gov.

Comments: Comments and questions concerning this ICR listed below should be forwarded to the Office of Information and Regulatory Affairs, Attn: OMB Desk Officer for Homeland Security, Office of Management and Budget, Room 10235, Washington, DC 20503 (Fax (202) 395-6974).

Comments must be received by September 29, 2003. The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Department of Homeland Security, Under Secretary of Management, Office of the Chief Information Officer.

Title: Supplemental Investigative Data.

OMB Number: 1620-0001.

Agency Form Number: SSF 86A.

Frequency: On occasion—reporting.

Affected Public: Individuals or households; Federal Government; State, Local or Tribal Government.

Number of Respondents: 10,000.

Estimated Time Per Respondent: 3 hours.

Total Burden Hours: 30,000.

Total Burden Cost (capital/startup): $0.

Total Burden Cost (operating/maintaining): $250,000 ($25 per application × 10,000).

Description: Respondents are all Secret Service applicants. Applicants approved for hire require a Top Secret Clearance, and possibly Special Compartmented Information (SCI) Access. Responses to questions on the SSF 886A form provide information necessary for the adjudication for eligibility of the clearance, as well as ensuring that the applicant meets all internal agency requirements.

Steven I. Cooper,
Chief Information Officer.

[FR Doc. 03-22056 Filed 8-25-03; 2:39 pm]

BILLING CODE 4410-10-P